DEPARTMENT OF TRANSPORTATION

Office of the Secretary

Aviation Proceedings, Agreements Filed the Week Ending February 28, 2003

The following agreements were filed with the Department of Transportation under the provisions of 49 U.S.C. sections 412 and 414. Answers may be filed within 21 days after the filing of the application.

Docket Number: OST-2003-14613.

Date Filed: February 27, 2003.

Parties: Members of the International Air Transport Association.

Subject: PTC2 EUR-ME 0153 dated 28 January 2003, TC2 Europe-Israel Resolutions, Minutes—PTC2 EUR-ME 0154 dated 14 February 2003, Tables—PTC2 EUR-ME Fares 0069 dated 31 January 2003, Intended effective date: 1 April 2003.

Docket Number: OST-2003-14617.

Date Filed: February 28, 2003.

Parties: Members of the International Air Transport Association.

Subject: PTC COMP 1016 dated 4 March 2003,

Mail Vote 269—Resolution 010q r1-r2,

TC2/TC12/TC23 Special Passenger Amending Resolution from Egypt,

Intended effective date: 15 March 2003.

Dorothy Y. Beard,
Chief, Docket Operations & Media Management, Federal Register Liaison.

[FR Doc. 03-5704 Filed 3-10-03; 8:45 am]

BILLING CODE 4910-62-P